DEPARTMENT OF HEALTH AND HUMAN SERVICES

National Institutes of Health

National Institute of Dental & Craniofacial Research; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Dental and Craniofacial Research Special Emphasis Panel, Review R13s, R03.

Date: October 12, 2007.

Time: 8 a.m. to 9 a.m.

Agenda: To review and evaluate grant applications.

Place: Hyatt Regency Bethesda, One Bethesda Metro Center, 7400 Wisconsin Avenue, Bethesda, MD 20814.

Contact Person: Mary Kelly, Scientific Review Specialist, National Institute of Dental & Crainofacial Res., 45 Center Drive, Natcher Bldg., RM 4AN38F, Bethesda, MD 20892-6402, (301) 594-4809, mary_kelly@nih.gov.

Name of Committee: National Institute of Dental and Craniofacial Research Special Emphasis Panel, Review R21, R03s.

Date: October 17, 2007.

Time: 2 p.m. to 4 p.m.

Agenda: To review and evaluate grant applications.

Place: National Institutes of Health, Natcher Building, 45 Center Drive, Bethesda, MD 20892, (Telephone Conference Call).

Contact Person: Sooyoun (Sonia) Kim, MS, 45 Center Dr., 4An32B, Division of Extramural Research, National Inst. of Dental & Crainofacial Research, National Institute of Health, Bethesda, MD 20892, (301) 594-4827, kims@email.nih.gov.

Name of Committee: National Institute of Dental and Craniofacial Research Special Emphasis Panel, Review RFA DE08-003/004, Oral Mucosal Vaccination Against HIV Infection.

Date: October 25, 2007.

Time: 8 a.m. to 6 p.m.

Agenda: To review and evaluate grant applications.

Place: Doubletree Hotel, 8120 Wisconsin Ave., Bethesda, MD 20814.

Contact Person: Mario Rinaudo, MD, Scientific Review Administrator, Scientific Review Branch, National Inst. of Dental & Crainofacial Research, National Institute of Health, 45 Center Dr., Rm. 4AN32A, Bethesda, MD 20892, 301-594-2904, mrinaudo@nidcr.nih.gov.

(Catalogue of Federal Domestic Assistance Program Nos. 93.121, Oral Diseases and Disorders Research, National Institutes of Health, HHS)

Dated: September 7, 2007.
Jennifer Spaeth,
Director, Office of Federal Advisory Committee Policy.

[FR Doc. 07-4574 Filed 9-14-07; 8:45 am]

BILLING CODE 4140-01-M